Title 3—

The President

Proclamation 9366 of November 13, 2015

American Education Week, 2015

By the President of the United States of America

A Proclamation

Education has the power to put aspirations within reach and help make real the promise of opportunity that defines America. That promise begins with making sure all who work hard have an equal shot. By supporting our students, educators, and schools, we can ensure the wellbeing of our Nation, earn back our status as having the highest proportion of college graduates in the world, and safeguard our legacy as a participatory and informed democracy. During American Education Week, we reaffirm our dedication to providing the finest tools, resources, and opportunities to our Nation's students and we recommit to making America a place where individuals are limited by nothing but the scope of their dreams.

In an increasingly competitive and interconnected global economy, nothing is more important than preparing rising generations for success from their earliest days of school. My Administration has made early childhood education a priority and we are working to expand access to high-quality preschool—one of the smartest investments we can make—and to improve the quality of child care in America. We have also offered critical incentives to States for boosting teaching and learning standards, expanded broadband and wireless connectivity in classrooms, and partnered with States and local communities to help close the school readiness gap in efforts to ensure all children's prospects are equal on their very first day in the classroom. I have also pushed to redesign American high schools to make them more innovative and responsive to student needs and more focused on extending science, technology, engineering, and math opportunities to our Nation's youth. And this year, my Administration announced new principles for assessing student learning, taking up less classroom time while still giving educators and parents the timely, actionable information they need to know children are learning.

Every American willing to work hard deserves a chance to pursue a higher education—no matter where they come from, what they look like, or what their circumstances are. That is why I have put forward a plan to make 2 years of community college as free and universal as high school is today. In addition, we have increased Pell Grant funding, expanded income-driven repayment options, and capped student loan repayments at 10 percent of a borrower's income while keeping interest rates low. To help more students obtain Federal financial aid and enroll in schools that are right for them, we have streamlined the FAFSA application process and released a new College Scorecard, which provides the most reliable national data on school costs, graduation rates, student loan debt, and post-college earnings. And just as our students require proper material support, they also need the support of those who guide their educational journeys—from preschool through high school and beyond. America's teachers and school communities make extraordinary sacrifices to cultivate a new generation of dreamers and change-makers, and as they do the important work of nurturing our Nation's students day in and day out, we must do our part to support them and ensure they have the tools and resources needed to perform their jobs effectively.

We have a responsibility to ensure every child has a pathway to success, and when we invest in the education and the future of our children and grandchildren, we place our bets on an America where dreams know no bounds. This week, let us pledge our support for our Nation's students by reaffirming the ideals that nobody should be priced out of an education, and everyone should have the chance to use their talents and abilities to contribute to our country's success.

NOW, THEREFORE, I, BARACK OBAMA, President of the United States of America, by virtue of the authority vested in me by the Constitution and the laws of the United States, do hereby proclaim November 15 through November 21, 2015, as American Education Week. I call upon all Americans to observe this week by supporting their local schools and educators through appropriate activities, events, and programs designed to help create opportunities for every school and student in America.

IN WITNESS WHEREOF, I have hereunto set my hand this thirteenth day of November, in the year of our Lord two thousand fifteen, and of the Independence of the United States of America the two hundred and fortieth.

[FR Doc. 2015-29627

Filed 11-17-15; 11:15 am]

Billing code 3295-F6-P